DEPARTMENT OF THE INTERIOR

Bureau of Indian Affairs

Draft Environmental Impact Statement for the Proposed Los Coyotes Band of Cahuilla and Cupeño Indians' 23-Acre Fee-to-Trust Transfer and Casino-Hotel Project, City of Barstow, San Bernardino County, CA

AGENCY: Bureau of Indian Affairs, Interior.

ACTION: Notice of Availability.

SUMMARY: The Bureau of Indian Affairs (BIA) as lead agency, with the Los Coyotes Band of Cahuilla and Cupeño Indians, National Indian Gaming Commission (NIGC), U.S. Environmental Protection Agency (USEPA), and the City of Barstow as cooperating agencies, intends to file a Draft Environmental Impact Statement (DEIS) with the USEPA for the Los Coyotes Band of Cahuilla and Cupeño Indians Fee-to-Trust and Casino-Hotel Project proposed to be located within the City of Barstow, San Bernardino County, California. This notice also announces that the DEIS is now available for public review and the date, time, and location of a public hearing to receive comments on the DEIS.

DATES: The DEIS will be available for public comment on July 1, 2011. Written comments on the DEIS must arrive by September 14, 2011. The public hearing will be held on July 27, 2011, starting at 6 p.m. and will run until the last public comment is received.

ADDRESSES: The public hearing will be held at the Barstow Community College Gymnasium, 2700 Barstow Road, Barstow, California.

You may mail or hand-deliver comments to Amy Dutschke, Regional Director, Pacific Regional Office, Bureau of Indian Affairs, 2800 Cottage Way, Sacramento, California 95825. See the SUPPLEMENTARY INFORMATION section of this notice for locations where the DEIS is available for review and for directions on submitting comments.

FOR FURTHER INFORMATION CONTACT: John Rydzik, Bureau of Indian Affairs, Pacific Regional Office, 2800 Cottage Way, Sacramento, California 95825, Telephone: (916) 978-6051.

SUPPLEMENTARY INFORMATION: Public review of the DEIS is part of the administrative process for the evaluation of tribal applications seeking to have the United States take land into trust for gaming pursuant under 25 U.S.C. 465, 25 CFR part 151, 29 CFR part 292, and 25 U.S.C. 2719(b)(1)(B). Pursuant to Council on Environmental Quality (CEQ) National Environmental Policy Act (NEP A) regulations (40 CFR 1506.10), the publication of this Notice of Availability in the Federal Register initiates the 75-day public comment period and thereby grants a 30-day extension to the normal 45-day public comment period.

Background

The Los Coyotes Band of Cahuilla and Cupeño Indians (Tribe) has requested that the BIA take into trust 23 acres of land currently held in fee by the Tribe, on which the Tribe proposes to construct a gaming facility, hotel, parking areas and other facilities. The approximately 23.1-acre project site is located within the incorporated boundaries of the City of Barstow, San Bernardino County, California, just east of Interstate 15. The parcels are located within Section 27, Township 9N, Range 2W, San Bernardino Base Meridian (SBM), as depicted on the Barstow, U.S. Geological Survey (USGS) topographic quadrangle. The project site consists of the following assessor's parcel numbers (APNs): 428-171-66, 428-171-67, and 428-171-68.

The proposed project includes the development of a casino with approximately 57,070 square feet of gaming floor. Associated facilities would include food and beverage services, retail space, banquet/meeting space, and administration space. Food and beverage facilities would include two full service restaurants, a drive-in restaurant, a buffet, a coffee shop, three service bars, and a lounge. The hotel tower would have approximately 100 rooms and a full-service restaurant. Both the gaming facility and the hotel would be open 24 hours a day, seven days a week. A total of 1,405 parking spaces would be provided.

The following alternatives are considered throughout the DEIS: (A) Barstow casino and hotel complex project, (B) Barstow Reduced Casino Hotel Complex (Proposed Project described above), (C) a reduced-intensity casino at a 19-acre site within the Los Coyotes Reservation, (D) a non-gaming alternative, specifically the development of a campground facility within the Los Coyotes, and (E) a no-action alternative. Environmental issues addressed in the DEIS include land resources, water resources, air quality, biological resources, cultural resources, socioeconomic conditions, environmental justice, transportation, land use, agriculture, public services, noise, hazardous materials, visual resources, cumulative effects, indirect effects, growth inducing effects and mitigation measures.

The BIA serves as the Lead Agency for compliance with NEPA (42 U.S.C. 4321 et seq.), with the NIGC, the USEPA, City of Barstow, and the Tribe serving as Cooperating Agencies. A public scoping meeting for the EIS was held by the BIA on May 4, 2006, at the Barstow Community College Gymnasium in Barstow, California.

Directions for Submitting Comments: Please include your name, return address, and the caption, “DEIS Comments, Los Coyotes Band of Cahuilla and Cupeño Indians Fee-to- Trust and Casino-Hotel Project,” on the first page of your written comments.

Locations Where the DEIS Is Available for Review: The DEIS will be available for review at the following locations:

Location | Address | General Information, phone number
San Bernardino County Public Library—Barstow, Barstow Branch | 304 East Buena Vista, Barstow, California 92311 | (760) 256-4850.
San Diego County Public Library—Borrego Springs | 587 Palm Canyon, #125, Borrego Springs, California 92004 | (760) 767-5761.

The DEIS is also available on the following Web site: http://www.loscoyoteseis.com.

To obtain a compact disk copy of the DEIS, please provide your name and address in writing or by voice-mail to John Rydzik, Chief of the Division of Environmental, Cultural Resources Management and Safety listed in the FOR FURTHER INFORMATION CONTACT section of this notice. Note however, individual paper copies of the DEIS will be provided upon payment of applicable printing expenses by the requestor for the number of copies requested.

Public Comment Availability: Comments, including names and addresses of respondents, will be available for public review at the BIA mailing address shown in the ADDRESSES section of this notice, during regular business hours, 8 a.m. to 4:30 p.m., Monday through Friday, except holidays. Before including your address, telephone number, e-mail address, or other personal identifying information in your comment, you should be aware that your entire comment—including your personal identifying information—may be made publicly available at any time. While you can ask us in your comment to withhold your personal identifying information from public review, we cannot guarantee that we will be able to do so.

Authority: This notice is published pursuant to Sec. 1503.1 of the Council of Environmental Quality Regulations (40 CFR parts 1500 through 1508) and Sec. 46.305 of the Department of Interior Regulations (43 CFR part 46), implementing the procedural requirements of the NEPA of 1969, as amended (42 U.S.C. 4371, et seq.), and is in the exercise of authority delegated to the Assistant Secretary—Indian Affairs by 209 DM 8.

Dated: June 15, 2011.
Jodi Gillette,
Deputy Assistant Secretary, Indian Affairs.

[FR Doc. 2011-16364 Filed 6-30-11; 8:45 am]

BILLING CODE 4310-W7-P